DEPARTMENT OF JUSTICE

Antitrust Division

Notice Pursuant to the National Cooperative Research and Production Act of 1993—Petroleum Environmental Research Forum (“PERF”) Project No. 2000-01

Notice is hereby given that, on April 25, 2002, pursuant to section 6(a) of the National Cooperative Research and Production Act of 1993, 15 U.S.C. 4301 et seq. (“the Act”), Petroleum Environmental Research Forum (“PERF”) Project No. 2000-01: “Effective Methods and Lessons Learned for Exploration & Production Waste Treatment” has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are ChevronTexaco Energy Research and Technology Company, Richmond, CA; ExxonMobil Production Company, Houston, TX; Phillips Petroleum Company, Bartlesville, OK; and Unocal, Brea, CA. The nature and objectives of the venture are, through cooperative research efforts, to identify, develop and/or improve methods for waste management considering both biological and non-biological methods, disposal options, selecting methods for international locations, sharing lessons learned from implementing technologies at specific sites including remote locations.

Constance K. Robinson,
Director of Operations, Antitrust Division.

[FR Doc. 02-13305 Filed 5-28-02; 8:45 am]

BILLING CODE 4410-11-M